DEPARTMENT OF TRANSPORTATION

Federal Aviation Administration

Notice of Availability of Draft Environmental Impact Statement (DEIS), Notice of Public Comment Period and Schedule of Public Workshop/Hearing for Master Plan Development Including Runway Safety Area Enhancement/Extension of Runway 12-30 and Other Improvements at Gary/Chicago International Airport located in Gary, IN

AGENCY: Federal Aviation Administration (FAA), DOT.

ACTION: Notice of availability, notice of comment period, notice of public workshop/hearing.

SUMMARY: The Federal Aviation Administration (FAA) is issuing this notice to advise the public that a Draft Environmental Impact Statement (DEIS)—Master Plan Development Including Runway Safety Area Enhancement/Extension of Runway 12-30 and Other Improvements, Gary/Chicago International Airport, has been prepared and is available for public review and comment. Written requests for the DEIS and written comments on the DEIS can be submitted to the individual listed in the section FOR FURTHER INFORMATION CONTACT. A public workshop/hearing will be held on May 25, 2004. The public comment period will commence on April 16, 2004 and will close on June 11, 2004.

Public Comment and A Workshop/Hearing: The start of the public comment period on the DEIS will be April 16, 2004 and will end on June 11, 2004 (which includes the Council on Environmental Quality's required 45 day public comment period from April 23, 2004 to June 7, 2004). A Public Workshop/Hearing will be held on May 25, 2004. Public comments will begin at 3 p.m. (CDST). The Public Workshop/Hearing will last till 7 p.m. (CDST). The location for the public workshop/hearing is the Terminal Building at the Gary/Chicago International Airport, 6001 Industrial Highway, Gary, Indiana.

Copies of the DEIS may be viewed during regular business hours at the following locations:

1. Gary/Chicago International Airport, 6001 West Industrial Highway, Gary, Indiana 46406.

2. Chicago Airports District Office, Room 312, Federal Aviation Administration, 2300 East Devon Avenue, Des Plaines, Illinois 60018.

3. Gary Public Library, 220 West 5th Avenue, Gary, Indiana 46402.

4. Hammond Public Library, 564 State Street, Hammond, Indiana 46320.

5. East Chicago Main Library, 2401 East Columbus Drive, East Chicago, Indiana 46312.

6. IU Northwest Library, 3400 Broadway, Gary, Indiana 46408.

7. Lake County Main Library, 1919 West 81st Avenue, Merrillville, Indiana 46410-5382.

8. Purdue Calumet Library, 2200 169th Street, Hammond, Indiana 46323-2094.

FOR FURTHER INFORMATION CONTACT: Prescott C. Snyder, Airports Environmental Program Manager, Federal Aviation Administration, Airports Division, Room 315, 2300 East Devon Avenue, Des Plaines, Illinois 60018. Mr. Snyder can be contacted at (847) 294-7538 (voice), (847) 294-7036 (facsimile) or by e-mail at 9-AGL-GYY-EIS-Project@faa.gov.

SUPPLEMENTARY INFORMATION: At the request of the Gary/Chicago Airport Authority, the FAA is preparing an Environmental Impact Statement. The review will address specific improvements at the Gary/Chicago International Airport as identified during the 2001 Airport Master Plan process and the 2003 Railroad Relocation Study, and shown on the 2004 Airport Layout Plan. The following improvements have been grouped into four categories and are identifying as ripe for review and decision: (1) Improvements associated with the existing Runway 12-30, the primary air carrier runway at the airport, relocate the E.J. & E. Railroad, acquire land northwest of the airport to allow for modifications to the runway safety area, relocate the airside perimeter roadway (including providing a southwest access roadway), relocate the Runway 12-30 navaids, improve the Runway Safety Area for Runway 12, relocate the Runway 12 threshold to remove prior displacement, and acquire land southeast of the airport, located within or immediately adjacent to the runway protection zone; (2) Extension of Runway 12-30, (1356 feet), relocate the Runway 12-30 navaids, extend parallel taxiway A to the new end of Runway 12, construct deicing hold pads on Taxiway A at Runway 12 and Runway 30, and develop two high-speed exit taxiways; (3) Expansion of the existing passenger terminal to accommodate projected demands; and (4) analysis of sites adjacent to the extended runway for potential aviation related development, including a future new passenger terminal and air cargo area.

The purpose and need for these improvements is reviewed in the DEIS. All reasonable alternatives will be considered including the no-action alternative.

Comments from interested parties on the DEIS are encouraged and may be presented verbally at a public workshop/hearing or may be submitted in writing to the FAA at the address listed in the section entitled FOR FURTHER INFORMATION CONTACT. The comment period will close on June 11, 2004.

Issued in Des Plaines, Illinois, on April 9, 2004.
Philip M. Smithmeyer,
Manager, Chicago Airports District Office, FAA, Great Lakes Region.

[FR Doc. 04-8823 Filed 4-16-04; 8:45 am]

BILLING CODE 4910-13-M